FEDERAL MARITIME COMMISSION

[Petition No. P4-17]

Petition of SM Line Corporation for an Exemption; Notice of Filing and Request for Comments

Notice is hereby given that SM Line Corporation (“Petitioner”), has petitioned the Commission pursuant to 46 CFR 502.92, 502.94, and 530.13(b) for an exemption from the individual service contract amendments provision of 46 CFR 530.10.

Petitioner states that it will soon merge with another Korean affiliated corporation, Woobang E&C, and that the “merger will include about 769 service contracts.” The Petitioner speculates the merger will occur “on or about January 12, 2018 . . .” Petitioner states that both itself and Woobang E&C will be “. . . jointly and severally liable, so the current corporation guarantees the performance of the new corporation, including its service contracts.” Petitioner claims “[it] would be an undue burden on [itself] and its shipper customers to identify those contracts not assignable by notice and to prepare, sign and file many individual amendments.” Petitioner claims “there will be no reduction in competition, and the relief will promote commerce by permitting the orderly servicing of these service contracts.”

In order for the Commission to make a thorough evaluation of the exemption requested in the Petition, pursuant to 46 CFR 502.92, 502.94, and 530.13(b), interested parties are requested to submit views or arguments in reply to the Petition no later than January 2, 2018. Replies shall be sent to the Secretary by email to Secretary@fmc.gov or by mail to Federal Maritime Commission, 800 North Capitol Street NW, Washington, DC 20573-0001, and replies shall be served on Petitioners' counsels, Robert B. Yoshitomi, NIXON PEABODY LLP, 799 Ninth Street NW, Ste. 500, Washington, DC 20001, ryoshitomi@nixonpeabody.com, and Eric C. Jeffrey, NIXON PEABODY LLP, 799 Ninth Street NW, Ste. 500, Washington, DC 20001, ejeffrey@nixonpeabody.com.

Non-confidential filings may be submitted in hard copy to the Secretary at the above address or by email as a PDF attachment to Secretary@fmc.gov and include in the subject line: P4-17 (Commenter/Company). Confidential filings should not be filed by email. A confidential filing must be filed with the Secretary in hard copy only, and be accompanied by a transmittal letter that identifies the filing as “Confidential-Restricted” and describes the nature and extent of the confidential treatment requested. The Commission will provide confidential treatment to the extent allowed by law for confidential submissions, or parts of submissions, for which confidentiality has been requested. When a confidential filing is submitted, there must also be submitted a public version of the filing. Such public filing version shall exclude confidential materials, and shall indicate on the cover page and on each affected page “Confidential materials excluded.” Public versions of confidential filings may be submitted by email. The Petition will be posted on the Commission's website at http://www.fmc.gov/P4-17. Replies filed in response to the Petition will also be posted on the Commission's website at this location.

Rachel E. Dickon,
Assistant Secretary.

[FR Doc. 2017-27135 Filed 12-15-17; 8:45 am]

BILLING CODE 6731-AA-P